FEDERAL TRADE COMMISSION

Agency Information Collection Activities; Proposed Collection; Comment Request; Extension

AGENCY: Federal Trade Commission.

ACTION: Notice.

SUMMARY: The Federal Trade Commission (“FTC” or “Commission”) is seeking public comment on its proposal to extend for an additional three years the Office of Management and Budget clearance for information collection requirements of its Funeral Industry Practice Rule (“Funeral Rule” or “Rule”). The current clearance expires on May 31, 2026.

DATES: Comments must be received on or before March 27, 2026.

ADDRESSES: Interested parties may file a comment online or on paper by following the instructions in the Request for Comments part of the SUPPLEMENTARY INFORMATION section below. Write “Funeral Rule PRA Comment: FTC File No. P084401” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: Melissa Dickey, Attorney, Division of Marketing Practices, Bureau of Consumer Protection, Federal Trade Commission, 600 Pennsylvania Avenue NW, Washington, DC 20580, mdickey@ftc.gov, (202) 326-2662.

SUPPLEMENTARY INFORMATION:

Title of Collection: Funeral Industry Practice Rule, 16 CFR part 453.

OMB Control Number: 3084-0025.

Type of Review: Extension of currently approved collection.

Affected Public: Private Sector: Businesses and other for-profit entities.

Estimated Annual Burden Hours: 152,305.

Estimated Annual Labor Costs: $5,067,797.

Estimated Annual Non-Labor Costs: $829,974.

Abstract

Under the PRA, 44 U.S.C. 3501-3521, Federal agencies must obtain Office of Management and Budget (“OMB”) approval for each collection of information they conduct or sponsor. “Collection of information” includes agency requests or requirements to submit reports, keep records, or provide information to a third party. 44 U.S.C. 3502(3); 5 CFR 1320.3(c). As required by section 3506(c)(2)(A) of the PRA, 44 U.S.C. 3506(c)(2)(A), the FTC is providing this opportunity for public comment before requesting that OMB extend the existing clearance for the information collection requirements contained in the Funeral Rule.

The Funeral Rule ensures that consumers who are purchasing funeral goods and services have access to accurate itemized price information so they can purchase only the funeral goods and services they want or need. Among other things, the Rule requires a funeral provider to: (1) provide consumers a copy of the funeral provider's General Price List that itemizes the goods and services it offers; (2) show consumers a Casket Price List and an Outer Burial Container Price List at the outset of any discussion of those items or their prices, and in any event before showing consumers caskets or vaults; (3) provide price information from its price lists over the telephone; and (4) give consumers a Statement of Funeral Goods and Services Selected after determining the funeral arrangements with the consumer during an “arrangements conference.” The Rule requires that funeral providers disclose this information to consumers and maintain records documenting their compliance with the Rule.

Burden Statement

Estimated burden hours for the tasks described herein are based on the number of funeral providers (approximately 15,401),¹ the number of funerals per year (an estimated 3,279,857),² and the time needed to complete the information collection tasks required by the Rule. Labor costs associated with the Funeral Rule are derived by applying hourly cost figures to the burden hours for each task.

¹ The estimated number of funeral providers is from data provided on the National Funeral Directors Association (“NFDA”) website. See National Funeral Directors Association, “Statistics,” available at http://www.nfda.org/news/statistics (Sept. 29, 2025).

² The estimated number of funerals conducted annually is derived from the National Center for Health Statistics (“NCHS”), https://www.cdc.gov/nchs/nvss/deaths.htm. According to NCHS, 3,279,857 deaths occurred in the United States in 2022, the most recent year for which final data is available. Staff believes this estimate overstates the number of funeral transactions conducted annually because not all remains go to a funeral provider covered by the Rule (e.g., remains sent directly to a crematory that does not sell urns, remains sent to a non-profit funeral provider, remains donated to a medical school, unclaimed remains handled by a local morgue or local government entity, etc.).

Recordkeeping: The Rule requires that funeral providers retain copies of price lists and statements of funeral goods and services selected by consumers for one year. Commission staff estimates that providers will spend approximately one hour per provider per year on compliance with this task, resulting in a total burden of 15,401 hours per year (15,401 providers × 1 hour per year = 15,401 hours).

Staff anticipates that clerical personnel, at an hourly rate of $16.51,³ will typically perform these tasks. Based on the estimated burden of 15,401 hours, the estimated labor cost for recordkeeping is $254,271.

³ Bureau of Labor Statistics, “Occupational Employment and Wage Statistics Query: Death Care Services: May 2024” available at https://data.bls.gov/oes/#/industry/812200. Clerical estimates are based on the mean hourly wage data for “receptionists and information clerks.”

Disclosure: The Rule's disclosure requirements mandate that funeral providers: (1) maintain current price lists for funeral goods and services, (2) provide written documentation of the funeral goods and services selected by consumers making funeral arrangements, and (3) provide information about funeral prices in response to telephone inquiries.

1. Maintaining accurate price lists may require that funeral providers revise their price lists occasionally to reflect price changes. Staff estimates that this task requires 2.5 hours per provider per year. Thus, the total burden for covered providers is 38,503 hours (15,401 providers × 2.5 hours per year = 38,503 hours).

Staff estimates that the 2.5 hours required, on average, to update price lists consists of approximately 1.5 hours of managerial or professional time, at $41.21 per hour,⁴ and one hour of clerical time, at $16.51 per hour, for a total annual labor cost of $1,206,283 for maintaining price lists.

⁴ Id. Managerial or professional estimates are based on the mean hourly wage data for “funeral home managers.”

2. The rulemaking record indicates that 87% or more of funeral providers provided written documentation of funeral arrangements prior to the enactment of the Rule and would continue to do so absent the Rule's requirements.⁵ Based on this data, staff estimates that 13% of funeral providers (typically, small funeral homes) may prepare written documentation for funeral goods and services selected by consumers specifically due to the Rule's mandate. Staff estimates that these smaller funeral homes arrange, on average, approximately 20 funerals per year and that it would take about three minutes to record prices for each consumer on the standard form. This yields a total annual burden of 2,002 hours ((15,401 funeral providers × 13%) × (20 statements per year × 3 minutes per statement) = 2,002 hours).

⁵ See 82 FR 12602, 12603 n.3 (2017). In a 2002 public comment, the National Funeral Directors Association asserted that nearly every funeral home had been providing consumers with some kind of final statement in writing even before the Rule took effect. Nonetheless, staff retains its estimate that 13% of funeral providers may provide written disclosures solely due to the Rule's requirements based on the original rulemaking record.

Staff anticipates that managerial or professional staff will typically perform these tasks, at an hourly rate of $41.21 per hour. Based on the estimated burden of 2,002 hours, the associated labor cost would be $82,502.

3. The Funeral Rule also requires that funeral providers provide information about funeral prices in response to telephone inquiries. The rulemaking record indicates that approximately 12% of funeral purchasers request funeral prices through telephone inquiries, with each call lasting an estimated 10 minutes.⁶ Assuming that the average purchaser who makes telephone inquiries places one call per funeral to determine prices,⁷ the estimated burden is 65,597 hours (3,279,857 funerals per year × 12% × 10 minutes per inquiry = 65,597 hours).

⁶ 82 FR 12602, 12603 (2017).

⁷ Although consumers who pre-plan their own arrangements may comparison shop and call more than one funeral home for pricing and other information, consumers making “at need” arrangements after a death are less likely to take the time to seek pricing information from more than one home. Many do not seek pricing information by telephone. Staff therefore believes that an average of one call per funeral is an appropriate estimate.

Staff understands that managerial or professional time is typically required to respond to telephone inquiries about prices, at an hourly rate of $41.21 per hour.⁸ Based on the estimated burden of 65,597 hours, the associated labor cost is $2,703,252.

⁸ Although some funeral providers may permit staff who are not funeral directors to provide price information by telephone, the great majority reserve that task to a licensed funeral director. Since funeral home managers are also licensed funeral directors in most cases, FTC staff has used the mean hourly wage for “funeral home managers” for this calculation.

Compliance Training: Staff believes that annual training burdens associated with the Rule are minimal because compliance training is typically included in continuing education for state licensing and voluntary certification programs. Staff estimates that four employees per firm would each require one half-hour, at most, per year, for training attributable to the Rule's requirements.⁹ Thus, the total estimated time for required training is 30,802 hours (15,401 providers × 4 employees per firm × 0.5 hours = 30,802 hours).

⁹ Funeral homes, depending on size and other factors, may be run by as few as one owner, manager, or other funeral director or multiple directors at various compensation levels. Extrapolating from past NFDA survey input, staff has estimated that the average funeral home employs approximately four employees (funeral home manager, funeral director, funeral service worker, and clerical receptionist) that may require training associated with Funeral Rule compliance. Compliance training for other employees (e.g., drivers, maintenance personnel, attendants) would not be necessary.

FTC staff further estimates labor costs for employee time required for compliance training as follows: (a) a funeral home manager ($41.21 per hour); (b) a funeral arranger ($26.96 per hour); (c) a funeral service worker ($22.00 per hour); and (d) a clerical receptionist or administrative staff member ($16.51 per hour).¹⁰ This amounts to $821,489, cumulatively, for all funeral homes (for each of the four types of employees: per hour rate × 0.5 hours × 15,401 providers).

¹⁰ Bureau of Labor Statistics, “Occupational Employment and Wage Statistics Query: Death Care Services: May 2024” available at https://data.bls.gov/oes/#/industry/812200 (mean hourly wages for funeral home managers; morticians, undertakers, and funeral arrangers; funeral service workers; and receptionists and information clerks).

Capital and other non-labor costs: Staff estimates that the Rule imposes minimal capital costs and no current start-up costs. Funeral homes already have access, for ordinary business purposes, to the ordinary office equipment needed for compliance, so the Rule likely imposes minimal additional capital expense.

Compliance with the Rule, nonetheless, does entail some expense to funeral providers for printing and duplication of required disclosures. Assuming, as required by the Rule, that one copy of the general price list is provided to consumers for each funeral arrangement conducted, at a cost of 25¢ per copy,¹¹ this would amount to 3,279,857 copies per year at a cumulative industry cost of $819,964 (3,279,857 funeral arrangements per year × 25¢ per copy). In addition, small funeral providers that furnish consumers with a statement of funeral goods and services solely because of the Rule's mandate ¹² will incur printing and copying costs. Assuming that those 2,002 providers (15,401 funeral providers × 13%) use the standard two-page form shown in the compliance guide, at 25¢ per copy, at an average of twenty funerals per year, the added cost burden would be $10,010 (2,002 providers × 20 funerals per year × 25¢). Thus, estimated non-labor costs total $829,974 ($819,964 + $10,010).

¹¹ Although copies of the casket price list and outer burial container price list must be shown to consumers, the Rule does not require that they be given to consumers. Thus, the cost of printing a single copy of these two disclosures to show consumers is de minimis, and is not included in this estimate of printing costs.

¹² See footnote 5.

Request for Comments

Pursuant to section 3506(c)(2)(A) of the PRA, the FTC invites comments on: (1) whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of maintaining records and providing disclosures to consumers. All comments must be received on or before March 27, 2026.

You can file a comment online or on paper. For the FTC to consider your comment, we must receive it on or before March 27, 2026. Write “Funeral Rule PRA Comment: FTC File No. P084401” on your comment. Your comment—including your name and your state—will be placed on the public record of this proceeding, including the https://www.regulations.gov website.

If you prefer to file your comment on paper, write “Funeral Rule PRA Comment: FTC File No. P084401” on your comment and on the envelope, and mail your comment to the following address: Federal Trade Commission, Office of the Secretary, 600 Pennsylvania Avenue NW, Mail Stop H-144 (Annex E), Washington, DC 20580.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted publicly at https://www.regulations.gov, we cannot redact or remove your comment unless you submit a confidentiality request that meets the requirements for such treatment under FTC Rule 4.9(c), and the General Counsel grants that request.

The FTC Act and other laws that the Commission administers permit the collection of public comments to consider and use in this proceeding, as appropriate. The Commission will consider all timely and responsive public comments that it receives on or before March 27, 2026. For information on the Commission's privacy policy, including routine uses permitted by the Privacy Act, see https://www.ftc.gov/site-information/privacy-policy.

Josephine Liu,
Assistant General Counsel for Legal Counsel.

[FR Doc. 2026-01459 Filed 1-23-26; 8:45 am]

BILLING CODE 6750-01-P